DEPARTMENT OF ENERGY

Federal Energy Regulatory Commission

[Docket No. EG00-99-000]

Riverside Generating Company, L.L.C.; Notice of Filing

February 22, 2000.

Take notice that on February 16, 2000, Riverside Generating Company, L.L.C., 1000 Louisiana, Suite 5800, Houston, Texas, filed with the Federal Energy Regulatory Commission an application for determination of exempt wholesale generator status pursuant to part 365 of the Commission's Regulations.

Riverside Generating Company, L.L.C., is a limited liability company, organized under the laws of the State of Delaware, and engaged directly and exclusively in owning and operating the Riverside Generating Company, L.L.C. electric generating facility (the Facility) to be located in Lawrence County, Kentucky and selling electric energy at wholesale. The Facility will consist of three gas turbine generators with a total nominal power output of approximately 500 MW, a metering station, and associated transmission interconnection components.

Any person desiring to be heard concerning the application for exempt wholesale generator status should file a motion to intervene or comments with the Federal Energy Regulatory Commission, 888 First Street, NE., Washington, DC 20426, in accordance with rules 211 and 214 of the Commission's Rules of Practice and Procedure (18 CFR 385.211 and 385.214). The Commission will limit its consideration of comments to those that concern the adequacy or accuracy of the application. All such motions and comments should be filed on or before March 14, 2000, and must be served on the applicant. Any person wishing to become a party must file a motion to intervene. Copies of this filing are on file with the Commission and are available for public inspection or on the Internet at http://www.ferc.fed.us/online/rims.htm (please call (202) 208-2222 for assistance).

Linwood A. Watson, Jr.,
Acting Secretary.

[FR Doc. 00-5267 Filed 3-3-00; 8:45 am]

BILLING CODE 6717-01-M